DEPARTMENT OF ENERGY

National Energy Technology Laboratory; Notice of Availability of a Financial Assistance Solicitation

AGENCY: National Energy Technology Laboratory, Department of Energy (DOE).

ACTION: Notice of availability of a Financial Assistance Solicitation.

SUMMARY: Notice is hereby given of the intent to issue Financial Assistance Solicitation No. DE-PS26-02NT41422 entitled Development of Technologies and Capabilities for Developing Coal, Oil, and Gas Energy Resources. The Department of Energy (DOE), National Energy Technology Laboratory (NETL), is conducting this solicitation to competitively seek cost-shared applications for research and development of technologies enabling development of energy resources needed to ensure the availability of affordable energy for the Nation's future.

DATES: Potential applicants are required to submit a brief, not to exceed four pages, pre-application. A response to the pre-applications either encouraging or discouraging submission of a comprehensive application will be communicated to the applicant within about 30 days of the closing date for the pre-application. All pre-applications must be submitted through the Industry Interactive Procurement System (IIPS) system in accordance with the instructions in the solicitation. The solicitation will be available on DOE/NETL's Internet address at http://www.netl.doe.gov/business and on the “Industry Interactive Procurement System” (IIPS) Web page located at http://e-center.doe.gov on or about November 15, 2001. The deadline for submission of pre-applications and comprehensive applications for each of the three evaluation periods will be identified in the solicitation.

FOR FURTHER INFORMATION CONTACT: Larry D. Gillham, MS 921-162, U.S. Department of Energy, National Energy Technology Laboratory, P.O. Box 10940, 626 Cochrans Mill Road, Pittsburgh, PA 15236-0940, E-mail Address: gillham@netl.doe.gov, Telephone Number: (412) 386-5817.

SUPPLEMENTARY INFORMATION: Through this solicitation, NETL seeks applications in the following fourteen (14) separate (i.e., stand alone) Areas of Interest:

Coal & Environmental Systems

(1) Combustion Systems

(2) Gasification Technologies

(3) Environmental & Water Resources

(4) Sequestration

(5) Power Systems Advanced Research

(6) Vision 21

Strategic Center for Natural Gas

(7) Fuel Cells

(8) Gas Exploration, Production & Storage

(9) Infrastructure Reliability

Fuels & Energy Efficiency

(10) Natural Gas Processing

(11) Transportation Fuels & Chemicals

(12) Fuels Advanced Research

Petroleum

(13) Oil and Gas Environmental: Upstream

(14) Oil and Gas Environmental: Downstream Processing, Heavy Oil Upgrading Technologies and Fundamental Science for Enhanced Environmental Performance at Refineries

Applicants must select and target only one (1) Area of Interest per application. DOE anticipates the award of multiple cost-sharing cooperative agreements under each Area of Interest. Approximately $17 million of DOE funds is planned for this solicitation which will cover all Areas of Interest and all evaluation periods. It is anticipated that a total of 20-30 awards will be made as a result of this solicitation. In accordance with Section 3002 of the Energy Policy Act (EPAct), a minimum of 20% cost share will be required for each project. This solicitation includes multiple closing dates and uses a Two-Step Application process for each closing date. Under Step 1, applicants will submit a pre-application for consideration. After agency consideration, the applicant will receive a notification that the submission of a comprehensive application is either encouraged or discouraged. After notifications through the IIPS system, applicants will have about 30 days to prepare and submit the comprehensive application. Offerors are hereby notified that comprehensive applications received on or before the pre-application due date will be discarded prior to evaluation, and will not be evaluated. Applications submitted by, or on behalf of: (1) Another Federal agency (OFA); (2) a Federally Funded Research and Development Center (FFRDC) sponsored by another Federal agency; or (3) a Department of Energy (DOE) Management and Operating (M&O) contractor will not be eligible for an award under this solicitation. OFAs, FFRDCs and M&Os will not be eligible to respond directly to this solicitation, nor may they participate as a teaming member or subcontractor under any application. Applications from OFAs, FFRDCs or M&Os, or applications which include an OFA, FFRDC or M&O as a team member or subcontractor will not be evaluated.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA, on November 1, 2001.
Dale A. Siciliano,
Deputy Director, Acquisition and Assistance Division.

[FR Doc. 01-29634 Filed 11-28-01; 8:45 am]

BILLING CODE 6450-01-P